DEPARTMENT OF COMMERCE

Foreign-Trade Zones Board

[B-81-2014]

Foreign-Trade Zone (FTZ) 114—Peoria, Illinois: Notification of Proposed Production Activity; Bell Sports, Inc. (Football Helmets), Rantoul, Illinois

Bell Sports, Inc. (Bell Sports) submitted a notification of proposed production activity to the FTZ Board for its facility in Rantoul, Illinois within FTZ Subzone 114F. The notification conforming to the requirements of the regulations of the FTZ Board (15 CFR 400.22) was received on November 7, 2014.

Bell Sports already has authority to produce certain sports equipment within Subzone 114F. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Bell Sports from customs duty payments on the foreign status materials/components used in export production. On its domestic sales, Bell Sports would be able to choose the duty rates during customs entry procedures that apply to collectible football helmets (duty rate 0%) for the foreign status materials/components noted below and in the existing scope of authority. Customs duties also could possibly be deferred or reduced on foreign status production equipment.

The materials/components sourced from abroad include: Decals; puff decals; mini- bows; clip-on ponytails; iron screws; 6mm screws; snap screws; t-nuts; and, hang tags (duty rate ranges from 0 to 7%). The request indicates that inputs classified under HTSUS Chapter 6307.90 will be admitted to the zone in privileged foreign status (19 CFR 146.41), thereby precluding inverted tariff benefits on such items.

Public comment is invited from interested parties. Submissions shall be addressed to the Board's Executive Secretary at the address below. The closing period for their receipt is December 29, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at christopher.kemp@trade.gov or (202) 482-0862.

Dated: November 12, 2014.
Elizabeth Whiteman,
Acting Executive Secretary.

[FR Doc. 2014-27294 Filed 11-17-14; 8:45 am]

BILLING CODE 3510-DS-P